DEPARTMENT OF THE TREASURY

Office of Foreign Assets Control

31 CFR Part 591

Publication of Venezuela Sanctions Regulations Web General Licenses 32, 33, 34, 34A, and 35

AGENCY: Office of Foreign Assets Control, Treasury.

ACTION: Publication of web general licenses.

SUMMARY: The Department of the Treasury's Office of Foreign Assets Control (OFAC) is publishing five general licenses (GLs) issued in the Venezuela Sanctions program: GLs 32, 33, 34, 34A, and 35, each of which was previously made available on OFAC's website.

DATES: GLs 32 and 33 were issued on August 5, 2019. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On August 5, 2019, OFAC issued GLs 32 and 33 to authorize certain transactions otherwise prohibited by Executive Order (E.O.) 13884 of August 5, 2019, “Blocking Property of the Government of Venezuela” (84 FR 38843, August 7, 2019). On September 9, 2019, OFAC issued GL 34 to authorize certain transactions otherwise prohibited by E.O. 13884. Subsequently, OFAC issued one further iteration of GL 34: on November 5, 2019, OFAC issued GL 34A, which superseded GL 34. Also on November 5, 2019, OFAC issued GL 35 to authorize certain transactions otherwise prohibited by E.O. 13884.

Each GL was made available on OFAC's website (www.treas.gov/ofac) when it was issued. The text of these GLs is provided below.

OFFICE OF FOREIGN ASSETS CONTROL

Executive Order of August 5, 2019

Blocking Property of the Government of Venezuela

GENERAL LICENSE NO. 32

Authorizing Certain Transactions Related to Personal Maintenance of Individuals Who Are U.S. Persons Residing in Venezuela

(a) Except as provided in paragraph (b) of this general license, individuals who are U.S. persons residing in Venezuela are authorized to engage in transactions involving the Government of Venezuela prohibited by Executive Order (E.O.) of August 5, 2019 that are ordinarily incident and necessary to their personal maintenance within Venezuela, including payment of housing expenses, acquisition of goods or services for personal use, payment of taxes or fees, and purchase or receipt of permits, licenses, or public utility services.

(b) This general license does not authorize any transaction or dealing otherwise prohibited by E.O. of August 5, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the Government of Venezuela persons described in paragraph (a) of this general license.

Andrea Gacki,

Director, Office of Foreign Assets Control.

Dated: August 5, 2019.

OFFICE OF FOREIGN ASSETS CONTROL

Executive Order of August 5, 2019

Blocking Property of the Government of Venezuela

GENERAL LICENSE NO. 33

Authorizing Overflight Payments, Emergency Landings, and Air Ambulance Services

(a) Except as specified in paragraph (c), the receipt of, and payment of charges for, services rendered involving the Government of Venezuela in connection with overflights of Venezuela or emergency landings in Venezuela by aircraft registered in the United States or owned or controlled by, or chartered to, persons subject to U.S. jurisdiction are authorized.

(b) Except as specified in paragraph (c), persons subject to U.S. jurisdiction are authorized to engage in all transactions involving the Government of Venezuela necessary to provide air ambulance and related medical services, including medical evacuation from Venezuela, for individuals in Venezuela.

(c) This general license does not authorize any transactions or dealings otherwise prohibited by Executive Order (E.O.) of August 5, 2019, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the Government of Venezuela persons described in paragraphs (a) and (b) of this general license.

Andrea Gacki,

Director, Office of Foreign Assets Control.

Dated: August 5, 2019

OFFICE OF FOREIGN ASSETS CONTROL

Executive Order 13884 of August 5, 2019

Blocking Property of the Government of Venezuela

GENERAL LICENSE NO. 34

Authorizing Transactions Involving Certain Government of Venezuela Persons

(a) Except as provided in paragraph (c) of this general license, all transactions and activities prohibited by Executive Order (E.O.) 13884 involving one or more individuals who meet the definition of the “Government of Venezuela,” as defined in E.O. 13884, including all transactions that involve property in which such individuals have an interest, are authorized, provided that the individuals are one or more of the following:

(1) United States citizens;

(2) Permanent resident aliens of the United States;

(3) Individuals in the United States who have a valid U.S. immigrant or nonimmigrant visa, other than individuals in the United States as part of Venezuela's mission to the United Nations; or

(4) Former employees and contractors of the Government of Venezuela.

(b) Except as provided in paragraph (c), all transactions necessary to unblock property or interests in property that were blocked solely pursuant to E.O. 13884, including the return or processing of funds, for individuals described in paragraph (a) of this general license are authorized.

(c) This general license does not authorize:

(1) The unblocking of any property blocked pursuant to E.O. 13884, or any part of 31 CFR chapter V, except as authorized by paragraph (a) or (b); or

(2) Any transactions or dealings otherwise prohibited by E.O. 13884, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person, including persons meeting the definition of the “Government of Venezuela” in E.O. 13884, other than the individuals described in paragraph (a) of this general license.

(d) U.S. persons unblocking property pursuant to paragraph (a) or (b) of this general license are required, within 10 business days from the date the property is unblocked, to file a report detailing the information required by 31 CFR 501.603(b)(3)(ii), with the Office of Foreign Assets Control, Office of Compliance and Enforcement, U.S. Department of the Treasury, 1500 Pennsylvania Avenue NW, Freedman's Bank Building, Washington, DC 20220, or via email to OFACReport@treasury.gov.

Andrea Gacki,

Director, Office of Foreign Assets Control.

Dated: September 9, 2019.

OFFICE OF FOREIGN ASSETS CONTROL

Executive Order 13884 of August 5, 2019

Blocking Property of the Government of Venezuela

GENERAL LICENSE NO. 34A

Authorizing Transactions Involving Certain Government of Venezuela Persons

(a) Except as provided in paragraph (d) of this general license, all transactions and activities prohibited by Executive Order (E.O.) 13884 involving one or more individuals who meet the definition of the “Government of Venezuela,” as defined in E.O. 13884, including all transactions that involve property in which such individuals have an interest, are authorized, provided that the individuals are one or more of the following:

(1) United States citizens;

(2) Permanent resident aliens of the United States;

(3) Individuals who have a valid U.S. immigrant or nonimmigrant visa, other than individuals in the United States as part of Venezuela's mission to the United Nations;

(4) Former employees and contractors of the Government of Venezuela; or

(5) Current employees and contractors of the Government of Venezuela who provide health or education services in Venezuela, including at hospitals, schools, and universities.

(b) Except as provided in paragraph (d) of this general license, all transactions and activities prohibited by E.O. 13884 related to the receipt by an individual described in paragraph (a) of this general license of salary, pension, annuity, or other employment-related payments or benefits from a person meeting the definition of “Government of Venezuela” in E.O. 13884 and blocked solely pursuant to E.O. 13884 are authorized.

(c) Except as provided in paragraph (d), all transactions necessary to unblock property or interests in property that were blocked solely pursuant to E.O. 13884 for individuals described in paragraph (a) of this general license and transactions described in paragraph (b) of this general license, including the return or processing of funds, are authorized.

(d) This general license does not authorize:

(1) The unblocking of any property blocked pursuant to E.O. 13884, or any part of 31 CFR chapter V, except as authorized by paragraph (a), (b) or (c);

(2) Any transactions or dealings otherwise prohibited by E.O. 13884, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person, including persons meeting the definition of the “Government of Venezuela” in E.O. 13884, other than the individuals described in paragraph (a) of this general license, and the transactions described in paragraphs (b) and (c) of this general license; or

(3) Any transactions or dealings with, or the unblocking of any property or interests in property of, any person included on OFAC's Specially Designated Nationals and Blocked Persons List (SDN List).

(e) U.S. persons unblocking property pursuant to paragraph (a), (b), or (c) of this general license are required, within 10 business days from the date the property is unblocked, to file a report detailing the information required by 31 CFR 501.603(b)(3)(ii), with the Office of Foreign Assets Control, Office of Compliance and Enforcement, U.S. Department of the Treasury, 1500 Pennsylvania Avenue NW, Freedman's Bank Building, Washington, DC 20220, or via email to OFACReport@treasury.gov.

(f) Effective November 5, 2019, General License 34, dated September 9, 2019, is replaced and superseded in its entirety by this General License No. 34A.

Andrea Gacki,

Director, Office of Foreign Assets Control.

Dated: November 5, 2019.

OFFICE OF FOREIGN ASSETS CONTROL

Executive Order 13884 of August 5, 2019

Blocking Property of the Government of Venezuela

GENERAL LICENSE NO. 35

Authorizing Certain Administrative Transactions With the Government of Venezuela

(a) Except as provided in paragraph (b) of this general license, U.S. persons are authorized to pay taxes, fees, and import duties to, and purchase or receive permits, licenses, registrations, certifications, and public utility services from, the Government of Venezuela, to the extent such transactions and activities are prohibited by Executive Order (E.O.) 13884, where such transactions are necessary and ordinarily incident to such persons' day-to-day operations.

(b) This general license does not authorize any transaction or dealing otherwise prohibited by E.O. 13884, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the transactions described in paragraph (a) of this general license.

(c) Except as provided in paragraph (d) of this general license, U.S. persons who make one or more payments authorized by this general license in U.S. dollars to the Government of Venezuela are required to file reports, as set forth in paragraph (e) of this general license, with the Office of Foreign Assets Control (OFAC) and the Department of State's Office of Sanctions Policy and Implementation. Such reports must include: the names and addresses of the entity or entities remitting payment and the Government of Venezuela entity or entities receiving payment; the amount of funds paid to the Government of Venezuela; the type and scope of activities conducted, such as the relevant type of taxes, fees, or duties paid; and the dates of payment.

(d) U.S. financial institutions are not required to submit reports regarding any payments that they process on behalf of customers or other third parties that are authorized pursuant to this general license.

(e)(1) U.S. persons required to report to OFAC and the Department of State pursuant to paragraph (c) of this general license, must submit reports:

(i) By February 10, 2020, an initial report detailing all transactions and activities conducted pursuant to this general license from November 5, 2019 through February 3, 2020; and

(ii) (A) By August 10th of each year, detailing all transactions and activities conducted pursuant to this general license from January 1st through June 30th of the relevant year; and

(B) By February 10th of each subsequent year, detailing all transactions and activities conducted pursuant to this general license from July 1st through December 31st of the relevant year.

(2) Reports, which must reference General License 35, are to be sent to OFAC via email to OFACReport@treasury.gov or mailed to: Office of Foreign Assets Control, Office of Compliance and Enforcement, U.S. Department of the Treasury, 1500 Pennsylvania Avenue NW, Freedman's Bank Building, Washington, DC 20220, and to the Department of State via email to GL35reporting@state.gov or mailed to: U.S. Department of State, 2201 C Street NW, WHA-AND HIST-4915 Washington, DC 20520.

Andrea Gacki,

Director, Office of Foreign Assets Control.

Dated: November 5, 2019.

Andrea M. Gacki,
Director, Office of Foreign Assets Control.

[FR Doc. 2023-06967 Filed 4-3-23; 8:45 am]

BILLING CODE 4810-AL-P